DEPARTMENT OF COMMERCE

National Oceanic and Atmospheric Administration

Evaluation of National Estuarine Research Reserve

AGENCY: Office of Ocean and Coastal Resource Management, National Ocean Service, National Oceanic and Atmospheric Administration (NOAA), DOC.

ACTION: Notice of intent to evaluate.

SUMMARY: The NOAA Office of Ocean and Coastal Resource Management (OCRM) announces its intent to evaluate the performance of the Chesapeake Bay-Maryland National Estuarine Research Reserve.

The National Estuarine Research Reserve evaluation will be conducted pursuant to section 315 of the CZMA, as amended and regulations at 15 CFR part 921, subpart E and part 923 subpart L.

The CZMA requires continuing review of the performance of states with respect to National Estuarine Research Reserve program implementation. Evaluation of National Estuarine Research Reserves requires findings concerning the extent to which a state has met the national objectives, adhered to its Reserve final management plan, approved by the Secretary of Commerce, and adhered to the terms of financial assistance awards funded under the CZMA.

The evaluation will include a site visit, consideration of public comments, and consultations with interested Federal, State, and local agencies and members of the public. Public meetings will be held as part of the site visit.

Notice is hereby given of the dates of the site visit for the listed evaluation, and the date, local time, and location of the public meeting during the site visit.

The Chesapeake Bay-Maryland National Estuarine Research Reserve site visit will be from November 12-14, 2002. One public meeting will be held during the week. The public meeting will be held on Wednesday, November 13, 2002, at 7 p.m., at the Jug Bay Wetlands Sanctuary on Wrighton Road in Anne Arundel County, Maryland.

Copies of the state's most recent performance reports, as well as OCRM's notification and supplemental request letters to the state, are available upon request from OCRM. Written comments from interested parties regarding the program are encouraged and will be accepted until 15 days after the public meeting. Please direct written comments to Douglas Brown, Deputy Director, Office of Ocean and Coastal Resource Management, NOS/NOAA, 1305 East-West Highway, 10th Floor, Silver Spring, Maryland 20910. When the evaluation is completed, OCRM will place a notice in the Federal Register announcing the availability of the Final Evaluation Findings.

FOR FURTHER INFORMATION CONTACT: Douglas Brown, Deputy Director, Office of Ocean and Coastal Resource Management, NOS/NOAA, 1305 East-West Highway, Silver Spring, Maryland 20910, (301) 713-3155, Extension 215.

Federal Domestic Assistance Catalog 11.419, Coastal Zone Management Program Administration.
Dated: September 25, 2002.
Jamison S. Hawkins,
Deputy Assistant Administrator for Ocean Services and Coastal Zone Management.

[FR Doc. 02-24804 Filed 9-27-02; 8:45 am]

BILLING CODE 3510-08-M